DEPARTMENT OF HEALTH AND HUMAN SERVICES

National Institutes of Health

Submission for OMB Review; 30-Day Comment Request; Next Series of Tobacco Use Supplements to the Current Population Survey (TUS-CPS) (NCI)

SUMMARY: Under the provisions of Section 3507(a)(1)(D) of the Paperwork Reduction Act of 1995, the National Institutes of Health (NIH), has submitted to the Office of Management and Budget (OMB) a request for review and approval of the information collection listed below. This proposed information collection was previously published in the Federal Register on January 22 (Volume 79, P. 3598) and allowed 60-days for public comment. There were a total of three comments. Two of the three comments were requests for a copy of the questionnaire and plans, which were sent to the requestors. One of these requestors commented in support of FDA's co-sponsorship with NCI of the TUS-CPS and NCI/NIH working with sister agencies and HHS to harmonize and coordinate tobacco use information across various federal surveys. It further stated the importance of this kind of HHS evaluation with sister agencies, made specific suggestions what this should include, and concluded with offering assistance. Additionally, the third public comment was about spending of tax-payers' dollars. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30-days of the date of this publication.

FOR FURTHER INFORMATION CONTACT: To obtain a copy of the data collection plans and instruments or request more information on the proposed project contact: Anne Hartman, Health Statistician, Risk Factor Monitoring and Methods Branch, National Cancer Institute, NIH, MSC 9762, 9609 Medical Center Drive, Bethesda, MD or call non-toll-free number 240-276-6704 or Email your request, including your address to: hartmana@mail.nih.gov. Formal requests for additional plans and instruments must be requested in writing.

Proposed Collection: Next Series of Tobacco Use Supplements to the Current Population Survey (TUS-CPS), 0925-0368, Reinstatement with Change, National Cancer Institute (NCI), National Institutes of Health (NIH).

Need and Use of Information Collection: The 2014-15 Tobacco Use Supplement—Current Population Survey (TUS-CPS) will be conducted by the Census Bureau and is co-sponsored by the National Cancer Institute (NCI) and the Food and Drug Administration (FDA). Fielded since 1992, most recently in 2010-11, this survey is part of a continuing series of surveys (OMB No. 0925-0368) sponsored by NCI that has been administered triennially as part of the Census Bureau's and the Bureau of Labor Statistics' CPS. For the TUS-CPS, data will be collected from the U.S. civilian non-institutionalized population on smoking, other tobacco use, including switching, flavors, dependence, cessation attempts, and policy and social norms. The TUS-CPS has been a key source of national, state, some local-level, and health disparity data on these topics in U.S. households because it uses a large, nationally representative sample. The 2014-15 TUS-CPS is designed to meet both NCI's and FDA's goals. The NCI and FDA are co-sponsoring the 2014-15 TUS-CPS through parallel, but separate interagency agreements with the Census Bureau. The NCI is particularly focused on policy information such as home and workplace smoking policies, cigarette price, and impact of these on subsequent purchase and use behavior; and changes in smoking norms and attitudes. The FDA aims to support research to aid the development and evaluation of tobacco product regulations. The research findings generated from this program are expected to provide data to inform FDA regulation of the manufacture, distribution, and marketing of tobacco products to protect public health. A unique feature is the ability to link other social and economic Census Bureau and Bureau of Labor Statistics data, other sponsor-supported supplement data, and the National Longitudinal Mortality Study cancer incidence and cause-specific mortality data to the TUS-CPS data. Data will be collected in July 2014, January 2015, and May 2015 from about 255,000 respondents.

OMB approval is requested for 2 years. There are no costs to respondents other than their time. The total estimated annualized burden hours are 12,750.

Estimated Annualized Burden Hours
Type of Respondent | Number of respondents | Responses per respondent | Average burden per response (in hour) | Annual burden hours
Individuals | 127,500 | 1 | 6/60 | 12,750

Dated: April 21, 2014.
Vivian Horovitch-Kelley,
NCI Project Clearance Liaison, National Institutes of Health.

[FR Doc. 2014-09444 Filed 4-24-14; 8:45 am]

BILLING CODE 4140-01-P